OFFICE OF THE UNITED STATES TRADE REPRESENTATIVE

[Docket No. WTO/DS-294]

WTO Dispute Settlement Proceeding Regarding Offsets to Calculated Dumping Margins for Instances of Non-Dumping

AGENCY: Office of the United States Trade Representative.

ACTION: Notice; request for comments.

SUMMARY: The Office of the United States Trade Representative (“USTR”) is providing notice that on February 5, 2004, the European Communities (“EC”) requested the establishment of a dispute settlement panel under the Marrakesh Agreement Establishing the World Trade Organization (“WTO Agreement”) regarding offsets to calculated dumping margins for instances of non-dumping. On February 16, 2004, the EC submitted to the WTO another request for the establishment of a dispute settlement panel, which the EC described as a “corrected version” of its request of February 5. The EC asserts that various U.S. laws, regulations, administrative procedures, measures and methodologies are inconsistent with Articles 1, 2, 3, 5, 9, 11, and 18 of the Agreement on Implementation of Article VI of the General Agreements on Tariffs and Trade 1994 (“AD Agreement”), Articles VI:1 and VI:2 of the General Agreement on Tariffs and Trade 1994 (“GATT 1994”), and Article XVI:4 of the WTO Agreement. USTR invites written comments from the public concerning the issues raised in this dispute.

DATES: Although USTR will accept any comments received during the course of the dispute settlement proceedings, comments should be submitted on or before April 16, 2004, to be assured of timely consideration by USTR.

ADDRESSES: Comments should be submitted (i) electronically, to FR0080@ustr.gov, with “Dumping Margin Offset” in the subject line, or (ii) by fax to Sandy McKinzy at (202) 395-3640, with a confirmation copy sent electronically to the address above, in accordance with the requirements for submission set out below.

FOR FURTHER INFORMATION CONTACT: William D. Hunter, Associate General Counsel, Office of the United States Trade Representative (202) 395-3582.

SUPPLEMENTARY INFORMATION: Section 127(b) of the Uruguay Round Agreements Act (“URAA”) (19 U.S.C. 3537(b)(1)) requires that notice and opportunity for comment be provided after the United States submits or receives a request for the establishment of a WTO dispute settlement panel. Consistent with this obligation, USTR is providing notice that the EC has requested the establishment of a dispute settlement panel pursuant to the WTO Dispute Settlement Understanding (“DSU”). The panel, which will hold its meetings in Geneva, Switzerland, is expected to issue a report on its findings and recommendations within six to nine months after it is established.

Major Issues Raised by the EC

With respect to the alleged measures at issue, the EC's request for the establishment of a panel refers to the following: ¹

¹ For purposes of this notice, the description of the measures and claims raised by the EC is based on the so-called “corrected version” of the EC's panel request, which is available on the WTO website's document distribution facility as document “WT/DS294/7/Rev1.”

• The Tariff Act of 1930, as amended, including the Statement of Administrative Action, in particular Title VII and sections 731, 751, 771(35)(A), 771(35)(B), and 777(A)(d) [sic];

• The implementing regulation of the U.S. Department of Commerce (“DOC”), 19 CFR Part 351, in particular section 351.414(c)(2);

• The methodology of the DOC for determining the dumping margin in investigations on the basis of the comparison of a weighted average normal value with a weighted average export price;

• The methodology of the DOC for determining the dumping margin in reviews on the basis of a comparison of a weighted average normal value with an individual export price;

• The Import Administration Antidumping Manual (1997 edition), including the computer program(s) to which it refers;

• The determinations of dumping by the DOC, the determinations of injury by the U.S. International Trade Commission (“ITC”), and the imposition of definitive duties in the following investigations: ²

² For the precise EC description of these determinations and notices, including the dates of publication in the Federal Register, see Annex I of the EC's request for the establishment of a panel. WT/DS294/7/Rev1. In this regard, the EC's reference to “ITC Case No. A-” is incorrect. The proper citation is “ITC Inv. No. 731-TA-.” Thus, for example, the reference to “ITC Case No. A-903” should be “ITC Inv. No. 731-TA-903.”

• Certain hot-rolled carbon steel from the Netherlands, DOC Case No. A-421-807, ITC Case No. A-903;

• Stainless steel bar from France DOC Case No. A-427-820, ITC Case No. A-913;

• Stainless steel bar from Germany, DOC Case No. A-428-830, ITC Case No. A-914;

• Stainless steel bar from Italy, DOC Case No. A-475-829, ITC Case No. A-915;

• Stainless steel bar from the United Kingdom, DOC Case No. A-412-822, ITC Case No. A-918;

• Stainless steel wire rod from Sweden, DOC Case No. A-401-86, ITC Case No. A-774;

• Stainless steel wire rod from Spain, DOC Case No. A-469-807, ITC Case No. A-773;

• Stainless steel wire rod from Italy, DOC Case No. A-475-820, ITC Case No. A-770;

• Certain stainless steel plate in coils from Belgium, DOC Case No. A-423-808, ITC Case No. A-788;

• Stainless steel sheet and strip in coils from France, DOC Case No. A-427-814, ITC Case No. A-797;

• Stainless steel sheet and strip in coils from Italy, DOC Case No. A-475-824, ITC Case No. A-799;

• Stainless steel sheet and strip in coils from the United Kingdom, DOC Case No. A-412-818, ITC Case No. A-804;

• Certain cut-to-length carbon-quality steel plate from France, DOC Case No. A-427-816, ITC Case No. A-816;

• Certain cut-to-length carbon-quality steel plate from Italy, DOC Case No. A-475-826, ITC Case No. A-819;

• Certain pasta from Italy, DOC Case No. A-475-818, ITC Case No. A-734; and

• The final results of the administrative reviews by the DOC in the following proceedings.³

³ For the precise EC description of these final results, see Annex II of the EC's request for the establishment of a panel. WT/DS294/7/Revl.

• Industrial nitrocellulos from France, DOC Case No. A-427-009, 66 FR 54213 (Oct. 26, 2001);

• Industrial nitrocellulos from the United Kingdom, DOC Case No. A-412-803, 67 FR 77747 (Dec. 19, 2002);

• Stainless steel plate in coils from Belgium, DOC Case No. A-423-808, 67 FR 64352 (Oct. 18, 2002);

• Certain pasta from Italy, DOC Case No. A-475-818, 66 FR 300 (Jan. 3, 2002), amended 67 FR 5088 (Feb. 4, 2002);

• Certain pasta from Italy, DOC Case No. A-475-818, 68 FR 6882 (Feb. 11, 2003);

• Stainless steel sheet and strip in coils from Italy, DOC Case No. A-475-824, 67 FR 1715 (Jan. 14, 2002);

• Stainless steel sheet and strip in coils from Italy, DOC Case No. A-475-824, 68 FR 6719 (Feb. 10, 2003);

• Granular polytetrafluoenthylene [sic] from Italy, DOC Case No. A-475-703, 67 FR 1960 (Jan. 15, 2002);

• Granular polytetrafluoenthylene [sic] from Italy, DOC Case No. A-475-703, 68 FR 1960 (Jan. 15, 2003);

• Stainless steel sheet and strip in coils from France, DOC Case No. A-427-814, 67 FR 6493 (Feb. 12, 2002), amended 67 FR 12522 (March 19, 2002);

• Stainless steel sheet and strip in coils from France, DOC Case No. A-427-814, 67 FR 78773 (Dec. 26, 2002), amended 68 FR 4171 (Jan. 19, 2003);

• Stainless steel sheet and strip in coils from Germany, DOC Case No. A-428-825, 67 FR 7668 (Feb. 20, 2002), amended 67 FR 15178 (March 29, 2002);

• Stainless steel sheet and strip in coils from Germany, DOC Case No. A-428-825, 68 FR 6716 (Feb. 10, 2003);

• Ball bearings from France, DOC Case No. A-427-801, 67 FR 55780 (Aug. 30, 2002);

• Ball bearings from Italy, DOC Case No. A-425-801, 67 FR 55780 (Aug. 30, 2002);

• Ball bearings from the United Kingdom, DOC Case No. A-412-801 (Aug. 30, 2002).

In its request for the establishment of a panel, the EC alleges that the United States has acted inconsistently with Articles 1, 2.1, 2.4, 2.4.2, 3 (including Articles 3.1, 3.2 and 3.5, 5.8, 9.1, 9.3, 9.5, 11 (including Articles 11.2 and 11.3) and 18.4 of the AD Agreement, Articles VI:1 and VI:2 of the GATT 1994, and Article XVI:4 of the WTO Agreement.

With respect to the claims of WTO-inconsistency, the EC request for the establishment of a panel refers to the following:

• In new investigations,

• With respect to both the EC's “as such” and “as applied” claims, the comparison of export prices and normal values on a weighted average to weighted average basis, without any offset for instances of non-dumping, results in the calculation of a dumping margin and amount of dumping in excess of the actual dumping practiced by the companies concerned;

• With respect to the EC's “as applied” claims, the comparison described in the preceding paragraph results in the erroneous inclusion of imports from certain companies as “dumped imports” for purposes of determining injury and causation;

• In reviews, with respect to both the EC's “as such” and “as applied” claims, the comparison of export prices and normal values on a weighted average to transaction basis, without any offset for instances of non-dumping, results in the calculation of a dumping margin and the collection of an amount of antidumping duties in excess of the actual dumping practiced by the companies concerned.

Requirements for Submissions

Interested persons are invited to submit written comments concerning the issues raised in this dispute. Persons submitting comments may either send one copy by fax to Sandy McKinzy at (202) 395-3640, or transmit a copy electronically to FR0080@ustr.gov, with “Dumping Margin Offset (DS294)” in the subject line. For documents sent by fax, USTR requests that the submitter provide a confirmation copy electronically. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may quality as such, the submitting person—

(1) Must so designate the information or advice;

(2) Must clearly mark the material as “SUBMITTED IN CONFIDENCE” at the top and bottom of the cover page and each succeeding page of the submission; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-294, Dumping Margin Offset (DS294)) may be made by calling the USTR Reading Room at (202) 395-6186. The USTR Reading Room is open to the public from 9:30 a.m. to 12 noon and 1 p.m. to 4 p.m., Monday through Friday.

Daniel E. Brinza,
Assistant United States Trade Representative for Monitoring and Enforcement.

[FR Doc. 04-4657 Filed 3-2-04; 8:45 am]

BILLING CODE 3190-01-M